ENVIRONMENTAL PROTECTION AGENCY

[FRL-7973-6]

Science Advisory Board Staff Office; Notification of Upcoming SAB Meeting To Review the EPA Region 6 Geographic Information System Screening Tool (GISST)

AGENCY: Environmental Protection Agency (EPA).

ACTION: Notice.

SUMMARY: The EPA Science Advisory Board (SAB) Staff Office is announcing a public meeting of the SAB Ecological Processes and Effects Committee to review the EPA Region 6 Geographic Information System Screening Tool (GISST).

DATES: December 7-8, 2005. The SAB meeting will convene Wednesday, December 7 at 8:30 a.m., adjourning at approximately 4 p.m. (central time) Thursday, December 8.

ADDRESSES: The public meeting of the Panel will be held at the U.S. EPA Region 6 Headquarters Office, 1445 Ross Avenue, Dallas TX 75202.

FOR FURTHER INFORMATION CONTACT: Any member of the public wishing further information regarding the public meeting may contact Dr. Thomas Armitage, Designated Federal Officer (DFO), via telephone/voice mail at (202) 343-9995; via e-mail at armitage.thomas@epa.gov; or at the U.S. EPA Science Advisory Board (1400F), 1200 Pennsylvania Ave., NW., Washington, DC 20460. General information about the SAB can be found in the SAB Web site at http://www.epa.gov/sab.

For technical inquiries concerning the EPA Region 6 Geographic Information System Screening Tool, please contact Dr. Sharon Osowski by telephone/voice mail at 214-665-7506; via e-mail at osowski.sharon@epa.gov; or by mail at U.S. EPA Region 6 (mail code 6EN-XP), 1445 Ross Avenue, Suite 1200, Dallas, TX 75272-2733.

SUPPLEMENTARY INFORMATION:

Background

EPA Region 6 has requested that the SAB conduct a review of the Geographic Information System Screening Tool (GISST). The GISST is an environmental assessment tool developed to provide a systematic approach to considering single media and cumulative impacts in making decisions concerning complex projects, such as those subject to the National Environmental Policy Act (NEPA). The GISST uses geographic information system coverages and environmental and socioeconomic data to provide screening level assessments of the potential environmental vulnerabilities of project locations or the impacts of specified activities. Decision criteria are used in the GISST to score available data on a scale of one to five, where one equals lower potential environmental vulnerability or concern and five equals a higher level of vulnerability or concern. Scores are used by decision-makers to help prioritize potential project locations and alternatives and to help identify levels of environmental concern. EPA Region 6 is seeking comment from the SAB on the validity of the GISST methodology, the defensibility of the GISST results, and the usefulness of the GISST, particularly within the NEPA process. EPA Region 6 is also interested in making the GISST more user-friendly, and is seeking comments on further enhancements to the GISST.

Panel Formation

The Science Advisory Board is a chartered Federal advisory committee established under 42 U.S.C. 4365 to provide independent scientific and technical advice, consultation, and recommendations to the EPA Administrator on the technical basis for Agency positions and regulations. The SAB Staff Office is augmenting the expertise on the SAB Ecological Processes and Effects Committee to conduct the review of the GISST. The panel being formed will provide advice to the EPA through the Chartered SAB. The Panel will comply with the provisions of the Federal Advisory Committee Act and all appropriate SAB procedural policies, including the SAB process for panel formation described in the Overview of the Panel Formation Process at the Environmental Protection Agency Science Advisory Board, which can be found on the SAB's Web site at: http://www.epa.gov/sab/pdf/ec0210.pdf. The SAB Staff Office has previously formed panels that provided advice on EPA's Critical Ecosystem Assessment Model (CrEAM) and Regional Vulnerability Assessment (ReVA) methods for multi-scale decision-making. The expertise needed on the GISST Review Panel is similar to the expertise that was required for review of the CrEAM and the ReVA methods. Therefore, the SAB Staff Office will select a set of nominees for consideration to serve on the GISST Review Panel (known as the “Short List”) from the rosters of SAB panels that reviewed the CrEAM and ReVA methods, and from previously published Short Lists of candidates for those panels. The rosters of the SAB Critical Ecosystem Assessment Model Review Panel and the SAB Regional Vulnerability Assessment Advisory Panel, as well as the Short Lists of candidates for these panels, are available on the SAB Web site http://www.epa.gov/sab. The Short List will be posted on the SAB Web site at: http://www.epa.gov/sab, and will include, for each candidate, the nominee's name and biosketch. Public comments on the Short List will be accepted for 14 calendar days. During this comment period, the public will be requested to provide information, analysis or other documentation on nominees that the SAB Staff should consider in evaluating candidates for the Panel.

For the SAB, a balanced review panel (i.e., committee, subcommittee, or panel) is characterized by inclusion of candidates who possess the necessary domains of knowledge, the relevant scientific perspectives (which, among other factors, can be influenced by work history and affiliation), and the collective breadth of experience to adequately address the charge. Public responses to the Short List candidates will be considered in the selection of the panel, along with information provided by candidates and information gathered by SAB Staff independently of the background of each candidate (e.g., financial disclosure information and computer searches to evaluate a nominee's prior involvement with the topic under review). Specific criteria to be used in evaluation of an individual subcommittee member include: (a) Scientific and/or technical expertise, knowledge, and experience (primary factors); (b) absence of financial conflicts of interest; (c) scientific credibility and impartiality; (d) availability and willingness to serve; and (e) ability to work constructively and effectively in committees.

Prospective panelists will also be required to fill-out the “Confidential Financial Disclosure Form for Special Government Employees Serving on Federal Advisory Committees at the U.S. Environmental Protection Agency” (EPA Form 3110-48). This confidential form allows Government officials to determine whether there is a statutory conflict between that person's public responsibilities (which includes membership on an EPA Federal advisory committee) and private interests and activities, or the appearance of a lack of impartiality, as defined by Federal regulation. The form may be viewed and downloaded from the following URL address: http://www.epa.gov/sab/pdf/epaform3110-48.pdf.

Availability of Meeting Materials

Pursuant to the Federal Advisory Committee Act, Public Law 92-463, notice is hereby given that the Panel will hold a public meeting to conduct this review. The dates and times for the meeting are provided above. A roster of panel members, their biosketches, the meeting agenda, and the charge to the SAB panel will be posted on the SAB Web site prior to the meeting. Meeting materials also include the EPA Region 6 GIS Screening Tool (GISST) User's Manual available at the following URL address: http://www.epa.gov/earth1r6/6en/xp/enxp2a3.htm.

Procedures for Providing Public Comments

The SAB Staff Office accepts written public comments, and will accommodate oral public comments when possible. Written Comments: Written comments are preferred and should be submitted by e-mail to Dr. Thomas Armitage at armitage.thomas@epa.gov in Adobe Acrobat, WordPerfect, Word, or Rich Text files in IBM-PC/Windows 98/2000/XP format) by November 30, 2005. Those without access to e-mail may submit one signed hard copy of the comments to Dr. Armitage by mail or courier. Commenters planning to attend the meeting in person are asked to bring 35 copies of their comments for public distribution. Oral Comments: Requests to provide oral comments must be in writing (e-mail or fax) and received by Dr. Armitage no later than November 30, 2005 to reserve time on the meeting agenda. Presentation time for oral comment will typically be about five minutes per speaker, but may be reduced depending on time availability and the number of requests.

Meeting Accommodations

Individuals requiring special accommodation to access the public meetings listed above should contact the DFO at least five business days prior to the meeting so that appropriate arrangements can be made.

Dated: September 16, 2005.
Anthony F. Maciorowski,
Associate Director for Science, EPA Science Advisory Board Staff Office.

[FR Doc. 05-18954 Filed 9-21-05; 8:45 am]

BILLING CODE 6560-50-P